DEPARTMENT OF COMMERCE

Bureau of Industry and Security

Action Affecting Export Privileges; Wen Enterprises, Ning Wen, Hailin Lin; Order Renewing Temporary Denial Order Against Wen Enterprises (“WE”), Ning Wen (“Wen”), and Hailin Lin (“Lin”)

In the Matters of: WEN ENTERPRISES, 402 Wild Oak Drive, Manitowoc, WI 54220 and, NING WEN, 402 Wild Oak Drive, Manitowoc, WI 54220 and, HAILIN LIN, 402 Wild Oak Drive, Manitowoc, WI 54220, Respondents.

Pursuant to section 766.24 of the Export Administration Regulations (“EAR”), the Bureau of Industry and Security (“BIS”), U.S. Department of Commerce, through its Office of Export Enforcement (“OEE”), has requested that I renew for 180 days an Order temporarily denying export privileges of Wen Enterprises (“WE”), 402 Wild Oak Drive, Manitowoc, WI 54220; Ning Wen (“Wen”), 402 Wild Oak Drive, WI 54220; and Hailin Lin (“Lin”), 402 Wild Oak Drive, Manitowoc, WI 54220 (hereinafter collectively referred to as the “Respondents”). BIS has not sought a renewal of the Order against Beijing Rich Linscience Electronics Company or Ruo Ling Wang.

On January 31, 2005, I found that evidence presented by BIS demonstrated that the Respondents conspired to do acts that violated the EAR and did in fact commit numerous violations of the EAR by participating in the unlicensed export of national security controlled items to the People's Republic of China (“PRC”). I further found that such violations had been significant, deliberate and covert, and were likely to occur again, especially given the nature of the structure and relationships of the Respondents. Effective July 31, 2005, I found that, based on the continued circumstances that led to the initial issuance of the Order Denying Export Privileges on January 31, 2005, and on the additional evidence supplied by OEE, that the renewal of the Order for a period of 180 days was necessary and in the public interest, to prevent an imminent violation of the EAR.

OEE has presented additional evidence that, on September 20, 2005, a jury convicted Wen of nine counts related to his participation in a conspiracy to violate U.S. export control laws. On January 18, 2006, Wen was sentenced to 60 months in prison and a $50,000 fine. OEE also presented evidence that on December 21, 2005, Lin was sentenced to 42 months in prison and a $50,000 fine for her involvement in the conspiracy to violate U.S. export laws. OEE has informed me that Wen and Lin remain out of custody, on bond, and reside at a location that is both their home and also the operating address of WE. I now find, based on the continued circumstances that led to the initial issuance of the Order Denying Export Privileges on January 31, 2005, on the evidence that was presented by OEE prior to the Order's renewal on July 31, 2005, and on the additional evidence supplied by OEE, that the renewal of this Order for a period of 180 days is necessary and in the public interest, to prevent an imminent violation of the EAR. All parties to this Order have been given notice of the request for renewal in accordance with section 766.24 of the EAR.

It Is Therefore Ordered:

First, that the Respondents, Wen Enterprises, 402 Wild Oak Drive, Manitowoc, WI 54220; Ning Wen, 402 Wild Oak Drive, Manitowoc, WI 54220; and Hailin Lin, 402 Wild Oak Drive, Manitowoc, WI 54220 (hereinafter collectively referred to as “Respondents”), and their successors and assigns and when acting on behalf of any of the Respondents, their officers, employees, agents or representatives, (“Denied Persons”) may not, directly or indirectly, participate in any way in any transaction involving any commodity, software or technology (hereinafter collectively referred to as “item”) exported or to be exported from the United States that is subject to the Export Administration Regulations (“EAR”), or in any other activity subject to the EAR including, but not limited to:

A. Apply for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of the Denied Person any item subject to the EAR;

B. Take any action that facilitates the acquisition or attempted acquisition by the Denied Person of the ownership, possession, or control of any item subject to the EAR that has been or will be exported from the United States, including financing or other support activities related to a transaction whereby the Denied Person acquires or attempts to acquire such ownership, possession or control;

C. Take any action to acquire from or to facilitate the acquisition or attempted acquisition from the Denied Person of any item subject to the EAR that has been exported from the United States;

D. Obtain from the Denied Person in the United States any item subject to the EAR with knowledge or reason to know that the item will be, or is intended to be, exported from the United States; or

E. Engage in any transaction to service any item subject to the EAR that has been or will be exported from the United States and which is owned, possessed or controlled by the Denied Person, or service any item, of whatever origin, that is owned, possessed or controlled by the Denied Person if such service involves the use of any item subject to the EAR that has been or will be exported from the United States. For puposes of this paragraph, servicing means installation, maintenance, repair, modification or testing.

Third, that after notice and opportunity for comment as provided in section 766.23 of the EAR, any other person, firm, corporation, or business organization related to any of the Respondents by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on the Respondents, and shall be published in the Federal Register.

This Order is effective on January 27, 2006 and shall remain in effect for 180 days.

Entered this 27th day of January, 2006.
Wendy Wysong,
Deputy Assistant Secretary of Commerce for Export Enforcement.

[FR Doc. 06-1003 Filed 2-2-06; 8:45 am]

BILLING CODE 3510-DT-M